DEPARTMENT OF HEALTH AND HUMAN SERVICES

National Institutes of Health

NIH Request for Information (RFI) on NIH-Wide Strategic Plan for Research on the Health of Women

AGENCY: National Institutes of Health, HHS.

ACTION: Request for information.

SUMMARY: The Office of Research on Women's Health (ORWH) is updating the National Institutes of Health (NIH) Strategic Plan for Research on the Health of Women. NIH is publishing this Notice to solicit input from the basic, clinical, and translational scientists; advocacy and patient communities; and the public on topics under consideration for the next strategic plan.

DATES: NIH Request for Information (RFI) on NIH-Wide Strategic Plan for Research on the Health of Women is open for public comment through September 29, 2022. Comments must be received by September 29, 2022, to ensure consideration. Comments received after the public comment period has closed may be considered by the Office of Research on Women's Health.

ADDRESSES: Submissions must be sent electronically to RFI submission website at: https://rfi.grants.nih.gov/?s=62c5e1a9fe640000ed002eb2.

FOR FURTHER INFORMATION CONTACT: Questions about this RFI should be directed to Juliane Caviston, Ph.D., Office of Research on Women's Health, 6707 Democracy Boulevard, Suite 400, Bethesda, MD 20817, NIHWideSPWH@nih.gov, 301-435-0971.

SUPPLEMENTARY INFORMATION: ORWH was established in the Office of the NIH Director by the Public Health Service Act to (a) identify projects and multidisciplinary research related to women's health; (b) encourage research on sex differences and promote coordination among research entities; (c) assist NIH efforts to include women as participants in clinical research; and (d) develop opportunities and support for women in biomedical careers. These efforts will continue to be part of the office's core mission. Please see https://orwh.od.nih.gov/about/mission/ for more on the ORWH mission.

ORWH is responsible for an NIH-wide strategic plan for research on the health of women that promotes allocation of NIH resources for conducting and supporting research efforts on the health of women across NIH Institutes and Centers. The NIH Strategic Plan for Women's Health Research FY 2019-2023 https://orwh.od.nih.gov/sites/orwh/files/docs/ORWH_Strategic_Plan_2019_508C_0.pdf was developed by a collaborative group of leaders from the NIH Institutes, Centers, and Offices (ICOs); external stakeholders; and the public. The plan incorporates the missions of the NIH ICOs with ORWH's mission to pave the way toward scientific and workforce efforts that ultimately benefit the health and biomedical research careers of women. ORWH is currently in the process of updating the NIH-Wide Strategic Plan for Research on the Health of Women. Recent, significant public health events (e.g., the COVID pandemic) have had significant effects on the health of women. Several topics relevant to the health of women were reviewed by the NIH and the NIH Advisory Committee on Research on Women's Health (ACRWH) in 2021, through the congressionally directed and ORWH-led Women's Health Conference https://orwh.od.nih.gov/research/2021-womens-health-research-conference. This required a review of NIH activities to identify research opportunities to address maternal mortality and morbidity, survival rates of cervical cancer, and chronic and debilitating diseases in women. The recommendations that the ACRWH made consequent to this conference as well as recent scientific advances; new technologies; current health priorities; and feedback from this Request for Information will all be considered in the development of the next NIH-Wide Strategic Plan for Research on the Health of Women to help guide future NIH research efforts to improve the health of all women throughout the entire life course.

Request for Information

Please provide your perspective on the following topics:

• Research opportunities in the NIH Strategic Plan for Women's Health Research FY 2019-2023 https://orwh.od.nih.gov/sites/orwh/files/docs/ORWH_Strategic_Plan_2019_508C_0.pdf that should be modified to account for recent scientific advances.

• Emerging research needs and opportunities that reflect the changing landscape of the study of the health of women that should be added to the plan.

• Cross-cutting scientific themes (for example, multidisciplinary research, and/or utilizing data science, natural language processing, and artificial intelligence) or research-related themes that should be common to all future strategic goals and objectives (such as considerations of sex, gender, and age on health and disease, and health disparities).

How To Submit a Response

All responses should be submitted electronically at the RFI submission website at: https://rfi.grants.nih.gov/?s=62c5e1a9fe640000ed002eb2 by 11:59:59 p.m. (ET) on September 29, 2022. You will see an electronic confirmation acknowledging receipt of your response.

Responses to this RFI are voluntary and may be submitted anonymously. You may voluntarily include your name and contact information with your response. If you choose to provide NIH with this information, NIH will not share your name and contact information outside of NIH unless required by law.

Other than your name and contact information, please do not include any personally identifiable information or any information that you do not wish to make public. Proprietary, classified, confidential, or sensitive information should not be included in your response. The Government will use the information submitted in response to this RFI at its discretion. Other than your name and contact information, the Government reserves the right to use any submitted information on public websites, in reports, in summaries of the state of the science, in any possible resultant solicitation(s), grant(s), or cooperative agreement(s), or in the development of future funding opportunity announcements. This RFI is for informational and planning purposes only and is not a solicitation for applications or an obligation on the part of the Government to provide support for any ideas identified in response to it. Please note that the Government will not pay for the preparation of any information submitted or for use of that information.

We look forward to your input and hope that you will share this RFI opportunity with your colleagues.

Dated: July 25, 2022.
Tara A. Schwetz,
Acting Principal Deputy Director, National Institutes of Health.

[FR Doc. 2022-16546 Filed 8-2-22; 8:45 am]

BILLING CODE 4140-01-P